DEPARTMENT OF TRANSPORTATION

Federal Aviation Administration

14 CFR Part 71

[Docket No. FAA-2023-0090; Airspace Docket No. 23-AEA-03]

RIN 2120-AA66

Amendment of Class D and Class E Airspace, and Proposed Establishment of Class E Airspace, Poughkeepsie, NY

AGENCY: Federal Aviation Administration (FAA), DOT.

ACTION: Notice of proposed rulemaking (NPRM).

SUMMARY: This action proposes to amend Class D airspace and Class E surface airspace and establish Class E airspace designated as an extension to a Class D surface area for Hudson Valley Regional Airport, Poughkeepsie, NY, as an airspace evaluation determined an update is necessary.

DATES: Comments must be received on or before April 24, 2023.

ADDRESSES: Send comments on this proposal to: the U.S. Department of Transportation, Docket Operations, 1200 New Jersey Avenue SE, West Building Ground Floor, Room W12-140, Washington, DC 20590; telephone: (800) 647-5527, or (202) 366-9826. You must identify Docket No. FAA-2023-0090; Airspace Docket No. 23-AEA-03 at the beginning of your comments. You may also submit comments through the internet at www.regulations.gov.

FAA Order JO 7400.11G, Airspace Designations and Reporting Points, and subsequent amendments can be viewed online at www.faa.gov/air_traffic/publications/. For further information, contact the Rules and Regulations Group, Federal Aviation Administration, 800 Independence Avenue SW, Washington, DC 20591; telephone: (202) 267-8783.

FOR FURTHER INFORMATION CONTACT: John Fornito, Operations Support Group, Eastern Service Center, Federal Aviation Administration, 1701 Columbia Avenue, College Park, GA 30337; Telephone: (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend Class D airspace and Class E surface airspace and establish Class E airspace designated as an extension to a Class D surface area for Hudson Valley Regional Airport, Poughkeepsie, NY, to support IFR operations in the area.

Comments Invited

Interested parties are invited to participate on this proposed rulemaking by submitting such written data, views, or arguments as they may desire. Comments that provide a factual basis supporting the views and suggestions presented are particularly helpful in developing reasoned regulatory decisions on the proposal. Comments are specifically invited on the overall regulatory, aeronautical, economic, environmental, and energy-related aspects of the proposal.

Communications should identify both docket numbers (Docket No. FAA-2023-0090; Airspace Docket No. 23-AEA-03) and be submitted in triplicate to the Docket Management Facility (see ADDRESSES section for the address and phone number). You may also submit comments through the internet at www.regulations.gov.

Commenters wishing the FAA to acknowledge receipt of their comments on this action must submit with those comments a self-addressed stamped postcard on which the following statement is made: “Comments to FAA Docket No. FAA-2023-0090; Airspace Docket No. 23-AEA-03.” The postcard will be dated/time-stamped and returned to the commenter.

All communications received on or before the specified closing date will be considered before taking action on the proposed rule. The proposal contained in this document may be changed in light of the comments received. All comments submitted will be available for examination in the public docket both before and after the comment closing date. A report summarizing each substantive public contact with FAA personnel concerned with this rulemaking will be filed in the docket.

Availability of NPRMs

An electronic copy of this document may be downloaded through the internet at www.regulations.gov. Recently published rulemaking documents can be accessed through the FAA's web page at www.faa.gov/air_traffic/publications/airspace_amendments/.

You may review the public docket containing the proposal, any comments received, and any final disposition in person in the Dockets Office (see ADDRESSES section for address and phone number) between 9:00 a.m. and 5:00 p.m., Monday through Friday, except for Federal holidays. An informal docket may also be examined between 8:00 a.m. and 4:30 p.m., Monday through Friday, except for federal holidays at the office of the Eastern Service Center, Federal Aviation Administration, Room 350, 1701 Columbia Avenue, College Park, GA 30337.

Incorporation by Reference

Class D airspace designations are published in Paragraph 5000 and Class E airspace designations in Paragraphs 6002 and 6004 of FAA Order JO 7400.11. This document proposes to amend FAA Order JO 7400.11G, dated August 19, 2022, and effective September 15, 2022, which is incorporated by reference in 14 CFR 71.1. FAA Order JO 7400.11G is publicly available as listed in the ADDRESSES section of this document.

FAA Order JO 7400.11G lists Class A, B, C, D, and E airspace areas, air traffic service routes, and reporting points. These updates would be published subsequently in the next update to FAA Order JO 7400.11.

The Proposal

The FAA proposes an amendment to 14 CFR part 71 to amend Class D airspace and Class E surface airspace by increasing the radius to 4.4 miles (previously 4.0 miles). Also, this action would establish Class E airspace designated as an extension to a Class D surface area of 6.5 miles to the northeast and the southwest of Hudson Valley Regional Airport. An airspace evaluation determined this update is necessary for the safety and management of instrument flight rules (IFR) operations in the area.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures,” prior to any FAA final regulatory action.

Lists of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of Federal Aviation Administration Order JO 7400.11G, Airspace Designations and Reporting Points, dated August 19, 2022, and effective September 15, 2022, is amended as follows:

Paragraph 5000 Class D Airspace.

* * * * *

AEA NY D Poughkeepsie, NY [Amended]

Hudson Valley Regional Airport, NY

(Lat. 41°37′36″ N, long. 73°53′03″ W)

That airspace extending upward from the surface to and including 2,700 feet MSL within a 4.4-mile radius of Hudson Valley Regional Airport. This Class D airspace area is effective during the specific dates and times established in advance by a Notice to Air Missions. The effective date and time will thereafter be continuously published in the Chart Supplement.

Paragraph 6002 Class E Surface Airspace.

* * * * *

AEA NY E2 Poughkeepsie, NY [Amended]

Hudson Valley Regional Airport, NY

(Lat. 41°37′36″ N, long. 73°53′03″ W)

That airspace extending upward from the surface within a 4.4-mile radius of Hudson Valley Regional Airport. This Class E airspace is effective during the specific dates and times established in advance by a Notice to Air Missions. The effective date and time will thereafter be continuously published in the Chart Supplement.

Paragraph 6004 Class E Airspace Is Designated as an Extension to Class D or Class E Surface Area.

* * * * *

AEA NY E4 Poughkeepsie, NY [Established]

Hudson Valley Regional Airport, NY

(Lat. 41°37′36″ N, long. 73°53′03″ W)

That airspace extending upward from the surface within 1.8-miles each side of the 051° bearing of Hudson Valley Regional Airport, extending from the 4.4-mile radius to 6.5 miles northeast of the airport, and within 1.0-miles each side of the 231° bearing of the airport, extending from the 4.4-mile radius to 6.5-miles southwest of the airport.

Issued in College Park, Georgia, on March 1, 2023.
Lisa E. Burrows,
Manager, Airspace & Procedures Team North, Eastern Service Center, Air Traffic Organization.

[FR Doc. 2023-04602 Filed 3-8-23; 8:45 am]

BILLING CODE 4910-13-P